DEPARTMENT OF HEALTH AND HUMAN SERVICES

Health Resources and Services Administration

Advisory Commission on Childhood Vaccines (ACCV); Notice of Meeting; Cancellation

Federal Register Document 00-11251, in the issue dated Friday, May 5, 2000, on the following pages 26219-26220, the Advisory Commission on Childhood Vaccines meeting scheduled for June 7, 2000, has been cancelled due to lack of quorum.

Dated: May 31, 2000.
Jane M. Harrison,
Director, Division of Policy Review and Coordination.

[FR Doc. 00-14107 Filed 6-5-00; 8:45 am]

BILLING CODE 4160-15-P